DEPARTMENT OF THE INTERIOR

Bureau of Land Management

[WY-060-1320-EL; WYW150318]

Notice of Availability of the Record of Decision for the Final Environmental Impact Statement, West Hay Creek Coal Lease by Application Tract, WY

AGENCY: Bureau of Land Management, Interior.

ACTION: Notice of availability.

SUMMARY: In accordance with the National Environmental Policy Act (NEPA) of 1969, the Bureau of Land Management (BLM) announces the availability of the Record of Decision (ROD) for the Final Environmental Impact Statement (FEIS); West Hay Creek Coal Lease By Application (LBA) Tract.

ADDRESSES: The document will be available electronically on the following Web site: http://www.wy.blm.gov/. Copies of the ROD are available for public inspection at the following BLM office locations:

• Bureau of Land Management, Wyoming State Office, 5353 Yellowstone Road, Cheyenne, Wyoming 82009.

• Bureau of Land Management, Casper Field Office, 2987 Prospector Drive, Casper, Wyoming 82604.

FOR FURTHER INFORMATION CONTACT: Julie Weaver, Land Law Examiner, at 307-775-6260 or Bob Janssen, Wyoming Coal Coordinator, at 307-775-6206. Both Ms. Weaver's and Mr. Janssen's offices are located at the BLM Wyoming State Office, 5353 Yellowstone Road, Cheyenne, Wyoming 82009.

SUPPLEMENTARY INFORMATION: As stated in the FEIS, a ROD will be issued for the Federal coal tract considered for leasing in the FEIS. The ROD covered by this NOA is for coal tract West Hay Creek (WYW151634) and addresses leasing an estimated 160 million tons of in-place Federal coal underlying approximately 921.1575 acres in Campbell County, Wyoming, administered by the BLM Casper Field Office. The ROD approves Alternative 2 as the selected alternative. A competitive lease sale will be announced in the Federal Register at a later date.

Because the Assistant Secretary of the Interior, Lands and Minerals Management, has concurred in this decision it is not subject to appeal to the Interior Board of Land Appeals, as provided in 43 CFR Part 4. This decision is the final action of the Department of the Interior.

Dated: September 28, 2004.
Robert A. Bennett,
State Director.

[FR Doc. 04-22287 Filed 10-7-04; 8:45 am]

BILLING CODE 4310-22-P